DEPARTMENT OF COMMERCE

International Trade Administration

District Heating Mission to Russia; Extension

AGENCY: International Trade Administration, Department of Commerce

ACTION: Notice.

SUMMARY: The Department of Commerce announces new, extended recruitment closing dates for the following overseas trade missions. For a more complete description of each trade mission, obtain a copy of the mission statement from the Project Officer indicated below. Recruitment and selection of private sector participants for these missions will be conducted according to the Statement of Policy Governing Department of Commerce Overseas Trade Missions dated March 3, 1997.

District Heating Mission to Russia, Moscow and St Petersburg, Russia, October 15-21, 2000, Recruitment closes on September 15, 2000.

For further information contact: Rachel Halpern, U.S. Department of Commerce. Tel: 202-482-4423, Fax: 202-482-0170, E-Mail: Rachel_Halpern@ita.doc.gov

Clean Energy Trade Mission to Saudi Arabia, The United Arab Emirates, Qatar and Oman, October 24-November 1, 2000, Recruitment closes on September 22, 2000.

For further information contact: Joseph Ayoub, U.S. Department of Commerce. Tel: 202-482-0313, Fax: 202-482-0170, E-Mail: Joseph_Ayoub@ita.doc.gov

National Gas and Cogeneration Technologies Business Development Mission, Rio de Janeiro and Sao Paulo, Brazil, November 5-9, 2000, Recruitment closes on October 5, 2000.

For further information contact: Sam Beatty, U.S. Department of Commerce. Tel: 202-482-4179, Fax: 202-482-0170, E-mail: Samuel_Beatty@ita.doc.gov

Power Plant Renovation & Modernization/Natural Gas Utilization/Renewable Energy, Trade Mission to South Africa, Pretoria and Johannesburg, South Africa, November 13-17, 2000, Recruitment closes on October 13, 2000.

For further information contact: John Rasmussen, U.S. Department of Commerce. Tel: 482-1889, Fax: 202-82-0170, E-mail: John_Rasmussen@ita.doc.gov

Clean Energy Trade Mission China, Beijing, Chengdu and Guangzhou, China, December 4-8, 2000, Recruitment closes on November 3, 2000.

For further information contact Kathryn Hollander, U.S. Department of Commerce. 202-482-0385, Fax: 202-482-0170, E-mail: Kathryn_Hollander@ita.doc.gov

Clean Energy Trade Mission to India, New Delhi, Chennai, Calcutta and Mumbai, India, November 26-December 5, 2000, Recruitment closes on October 26, 2000.

For further information contact: Nazir Bhagat, U.S. Department of Commerce. Tel: 202-482-3855, Fax: 202-482-5666, E-mail: Nazir_Bhagat@ita.doc.gov

FOR FURTHER INFORMATION CONTACT: Reginald Beckham, U.S. Department of Commerce. Tel: 202-482-5478, Fax: 202-482-1999.

Dated: August 8, 2000.
Thomas H. Nisbet,
Director, Promotion Planning and Support Division, Office of Export Promotion Coordination.

[FR Doc. 00-20787 Filed 8-15-00; 8:45 am]

BILLING CODE 3410-DR-U